DEPARTMENT OF LABOR

Employment and Training Administration

[TA-W-50,588]

Murray Engineering, Inc., Complete Design Service, Flint, MI; Notice of Negative Determination Regarding Application for Reconsideration

By application received on February 19, 2003, a petitioner requested administrative reconsideration of the Department's negative determination regarding eligibility for workers and former workers of the subject firm to apply for Trade Adjustment Assistance (TAA). The denial notice applicable to workers of Murray Engineering, Inc., Complete Design Service, Flint, Michigan was signed on February 5, 2003, and published in the Federal Register on February 24, 2003 (68 FR 8620).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at Murray Engineering, Inc., Complete Design Service, Flint, Michigan engaged in activities related to industrial design and engineering services. The petition was denied because the petitioning workers did not produce an article within the meaning of section 222(3) of the Act.

The petitioner alleges that their services should be considered production because it involves a “tangible drawing essential and integral to the making or building of a product.”

The engineering drawings and schematics prepared by subject firm workers services are not considered production within the meaning of section 222(3) of the Act.

The petitioner also asserts that the Department may be misled by the subject firm's name into thinking that there is not a tangible product involved, but states that subject firm workers produce “design product on paper.”

Electronically generated information does not constitute production within the meaning of the Trade Act, and the fact that this information is generated on paper is irrelevant to worker group eligibility for trade adjustment assistance.

Finally, the petitioner appears to assert that the companies that produced the machines designed by the subject firm were certified and questions whether the Department has “discriminated” against the subject firm “because of a company name.”

The subject firm does not produce the same product as its customers, nor do the subject firm workers produce a component that is integrated into further production by its customers. Thus, the issue of whether the subject firm's customers are certified or not is irrelevant in context with the petitioning worker group's eligibility for TAA. The design services produced by the subject firm do not constitute production within the meaning of section 222(3) of the Trade Act.

Only in very limited instances are service workers certified for TAA, namely the worker separations must be caused by a reduced demand for their services from a parent or controlling firm or subdivision whose workers produce an article and who are currently under certification for TAA.

In conclusion, the workers at the subject firm did not produce an article within the meaning of section 222(3) of the Trade Act 1974.

Conclusion

After review of the application and investigative findings, I conclude that there has been no error or misinterpretation of the law or of the facts which would justify reconsideration of the Department of Labor's prior decision. Accordingly, the application is denied.

Signed in Washington, DC, this 31st day of March, 2003.
Edward A. Tomchick,
Director, Division of Trade Adjustment Assistance.

[FR Doc. 03-9151 Filed 4-14-03; 8:45 am]

BILLING CODE 4510-30-P